ENVIRONMENTAL PROTECTION AGENCY

40 CFR Part 52

[TX-119-1-7450b; FRL-6913-3]

Approval and Promulgation of Air Quality Implementation Plans; Texas; Control of Emissions of Volatile Organic Compounds from Batch Processes, Industrial Wastewater and Service Stations

AGENCY: Environmental Protection Agency (EPA).

ACTION: Proposed rule.

SUMMARY: The EPA is proposing to take direct final action on revisions to the Texas State Implementation Plan provisions for the control of volatile organic compounds (VOCs). This rule covers three separate actions. First, we are approving revisions to the rules for controlling emissions from industrial wastewater for the Houston/Galveston, Beaumont/Port Arthur, Dallas/Fort Worth and El Paso areas. Second, we are approving new rules for the control of emissions from batch processes in the Beaumont/Port Arthur area. Third, we are approving rules that added requirements for vapor recovery at service stations in the 95 counties in the eastern half of Texas.

The EPA is approving these revisions to regulate emissions of Volatile Organic Compounds in accordance with the requirements of the Federal Clean Air Act.

In the “Rules and Regulations” section of this Federal Register, EPA is approving the State's SIP revision as a direct final rule without prior proposal because the EPA views this as a noncontroversial revision and anticipates no adverse comment. The EPA has explained its reasons for this approval in the preamble to the direct final rule. If EPA receives no relevant adverse comments, the EPA will not take further action on this proposed rule. If EPA receives relevant adverse comment, EPA will withdraw the direct final rule and it will not take effect. The EPA will address all public comments in a subsequent final rule based on this proposed rule. The EPA will not institute a second comment period on this action. Any parties interested in commenting must do so at this time.

DATES: Written comments must be received by January 19, 2001.

ADDRESSES: Written comments should be addressed to Mr. Thomas H. Diggs, Chief, Air Planning Section (6PD-L), at the EPA Region 6 Office listed below. Copies of documents relevant to this action are available for public inspection during normal business hours at the following locations. Anyone wanting to examine these documents should make an appointment with the appropriate office at least two working days in advance.

Environmental Protection Agency, Region 6, Air Planning Section (6PD-L), 1445 Ross Avenue, Dallas, Texas 75202-2733.

Texas Natural Resource Conservation Commission, Office of Air Quality, 12124 Park 35 Circle, Austin, Texas 78753.

FOR FURTHER INFORMATION CONTACT: Mr. Guy R. Donaldson, Air Planning Section (6PD-L), EPA Region 6, 1445 Ross Avenue, Dallas, Texas 75202-2733, telephone (214) 665-6691.

SUPPLEMENTARY INFORMATION: This document concerns revisions to the Texas State Implementation Plan provisions for the control of VOCs. The revisions strengthen the requirements for the control of emissions from industrial wastewater, add requirements for the control of emissions from batch processes and add requirements for the control of emissions during the filling of storage tanks at gasoline service stations in 95 counties in the eastern half of Texas. For further information, please see the information provided in the direct final action that is located in the “Rules and Regulations” section of this Federal Register publication.

Authority: 42 U.S.C. 7401 et seq.

Dated: November 3, 2000.
Myron O. Knudson,
Acting Regional Administrator, Region 6.

[FR Doc. 00-31190 Filed 12-19-00; 8:45 am]

BILLING CODE 6560-50-U